DEPARTMENT OF THE TREASURY

Alcohol and Tobacco Tax and Trade Bureau

[Docket No. TTB-2015-0001]

Proposed Information Collections; Comment Request (No. 55)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before October 26, 2015.

ADDRESSES: As described below, you may send comments on the information collections listed in this document using the “Regulations.gov” online comment form for this document, or you may send written comments via U.S. mail or hand delivery. TTB no longer accepts public comments via email or fax.

• http://www.regulations.gov: Use the comment form for this document posted within Docket No. TTB-2015-0001 on “Regulations.gov,” the Federal e-rulemaking portal, to submit comments via the Internet;

• U.S. Mail: Michael Hoover, Regulations and Rulings Division, Alcohol and Tobacco Tax and Trade Bureau, 1310 G Street NW., Box 12, Washington, DC 20005.

• Hand Delivery/Courier in Lieu of Mail: Michael Hoover, Alcohol and Tobacco Tax and Trade Bureau, 1310 G Street NW., Suite 400, Washington, DC 20005.

Please submit separate comments for each specific information collection listed in this document. You must reference the information collection's title, form or recordkeeping requirement number, and OMB number (if any) in your comment.

You may view copies of this document, the information collections listed in it and any associated instructions, and all comments received in response to this document within Docket No. TTB-2015-0001 at http://www.regulations.gov. A link to that docket is posted on the TTB Web site at http://www.ttb.gov/forms/comment-on-form.shtml. You may also obtain paper copies of this document, the information collections described in it and any associated instructions, and any comments received in response to this document by contacting Michael Hoover at the addresses or telephone number shown below.

FOR FURTHER INFORMATION CONTACT: Michael Hoover, Alcohol and Tobacco Tax and Trade Bureau, 1310 G Street, NW., Box 12, Washington, DC 20005; telephone 202-453-1039, ext. 135; or email informationcollections@ttb.gov (please do not submit comments on this notice to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms, recordkeeping requirements, or questionnaires:

Title: Authorization to Furnish Financial Information and Certificate of Compliance.

OMB Number: 1513-0004.

TTB Form Number: F 5030.6.

Abstract: The TTB regulations require applicants for alcohol and tobacco permits to provide certain information regarding the money used to finance the business. The Right to Financial Privacy Act of 1978 (the Act; 12 U.S.C. 3401 et seq.) limits government access to records held by financial institutions, provides for certain procedures to gain access to such information, and requires that government agencies certify to a financial institution that the agency has complied with all provisions of the Act. TTB F 5030.6 acts as both a customer authorization that provides TTB the authority to receive the financial information and as the required certification to the financial institution.

Current Actions: We are submitting this information collection for extension purposes only. The information collection, estimated number of respondents, and estimated number of burden hours remain unchanged.

Type of Review: Extension of a currently approved collection.

Affected Public: Businesses or other for-profits.

Estimated Number of Respondents: 2,000.

Estimated Total Annual Burden Hours: 500.

Title: Liquors and Articles from Puerto Rico or the Virgin Islands, TTB REC 5530/3.

OMB Number: 1513-0089.

TTB Recordkeeping Requirement Number: REC 5530/3.

Abstract: TTB uses the records required to be kept under this information collection to verify claims for drawback of the Federal excise tax paid on nonbeverage products brought into the United States from Puerto Rico and the U. S. Virgin Islands.

Current Actions: We are submitting this information collection for extension purposes only. The recordkeeping requirements, estimated number of respondents, and estimated number of burden hours remain unchanged.

Type of Review: Extension of a currently approved collection.

Affected Public: Businesses or other for-profits.

Estimated Number of Respondents: 20.

Estimated Total Annual Burden Hours: 160.

OMB Control Number: 1513-0131.

Title: Certificate of Taxpaid Alcohol.

OMB Number: 1513-0131.

TTB Form Number: F 5100.4.

Abstract: Under 27 CFR 17.181, flavoring extracts, medicinal and toilet preparations, and perfume produced in the United States and then exported are eligible for drawback of all Federal alcohol excise taxes paid on the distilled spirits used to make the product, as provided in 19 U.S.C. 1313(d). When such nonbeverage products are exported, the industry member submits TTB F 5100.4 and supporting documentation to TTB to claim the remaining $1.00 per gallon of distilled spirits excise tax not previously claimed for domestic drawback. TTB certifies the form to show that the excise taxes were previously paid and not refunded. TTB then sends the certified form and supporting documents to the U.S. Customs and Border Protection to be processed and for the refund of the remaining $1.00 per gallon paid in excise taxes. TTB keeps a copy of the form on file to compare with future submissions in order to prevent duplication.

Current Actions: We are submitting this information collection for extension purposes only. The recordkeeping requirements, estimated number of respondents, and estimated number of burden hours remain unchanged.

Type of Review: Extension of a currently approved collection.

Affected Public: Businesses or other for-profits.

Estimated Number of Respondents: 10.

Estimated Total Annual Burden Hours: 500.

Dated: August 20, 2015.
Amy R. Greenberg,
Director, Regulations and Rulings Division.

[FR Doc. 2015-21260 Filed 8-26-15; 8:45 am]

BILLING CODE 4810-31-P